U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a virtual public hearing in Washington, DC on June 24, 2020 on “The Chinese View of Strategic Competition with the United States.”

DATES: The hearing is scheduled for Wednesday, June 24, 2020, at 10:00 a.m.

ADDRESSES: This hearing will be held online, with panelists and Commissioners participating via videoconference. Members of the public will be able to view a live webcast via the Commission's website at www.uscc.gov. Please check the Commission's website for possible changes to the hearing schedule. Reservations are not required to attend the hearing.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham at 202-624-1496, or via email at jcunningham@uscc.gov. Requests for an accommodation should be made as soon as possible, and at least five business days prior to the event.

SUPPLEMENTARY INFORMATION: Background: This hearing will examine China's views of and approach to strategic competition with the United States. It will first assess U.S.-China strategic competition over the last 20 years in the economic, military, and ideological domains. The hearing will then assess how China views this competition playing out in the United Nations and in key regions of the world. Finally, it will examine how the U.S.-China strategic competition will evolve in the future, including the prospects for a kinetic conflict.

The hearing will be co-chaired by Commissioner Roy Kamphausen and Commissioner Kenneth Lewis. Any interested party may file a written statement by June 24, 2020 by transmitting to the contact above. A portion of the hearing will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Date: June 10, 2020,
Daniel W. Peck,
Executive Director, U.S.-China Economic and Security Review Commission.

[FR Doc. 2020-12871 Filed 6-15-20; 8:45 am]

BILLING CODE 1137-00-P